DEPARTMENT OF THE INTERIOR

Fish and Wildlife Service

Notice of Intent To Prepare a Comprehensive Conservation Plan and Environmental Assessment for the Farallon National Wildlife Refuge

AGENCY: Fish and Wildlife Service, Department of the Interior.

ACTION: Notice of intent.

SUMMARY: The U.S. Fish and Wildlife Service (Service) is preparing a Comprehensive Conservation Plan (CCP) and Environmental Assessment (EA) for the Farallon National Wildlife Refuge (Refuge) located in San Francisco County, California. This notice advises the public that the Service intends to gather information necessary to prepare a CCP and EA pursuant to the National Wildlife Refuge System Administration Act of 1966, as amended, and the National Environmental Policy Act (NEPA). The public and other agencies are encouraged to participate in the planning process by sending written comments on management actions that the Service should consider. The Service is also furnishing this notice in compliance with the Service CCP policy to obtain suggestions and information on the scope of issues to include in the CCP and EA. Opportunities for public input will be announced throughout the CCP/EA planning and development process.

DATES: To ensure that the Service has adequate time to evaluate and incorporate suggestions and other input into the planning process, comments should be received on or before August 1, 2005.

ADDRESSES: Send written comments or requests to be added to the mailing list to the following address: Winnie Chan, Refuge Planner, Farallon Refuge CCP, San Francisco Bay National Wildlife Refuge Complex, P.O. Box 524, Newark, California 94560. Written comments may also be faxed to (510) 792-5828, or sfbaynwrc@fws.gov.

FOR FURTHER INFORMATION CONTACT: Winnie Chan, Refuge Planner, or Joelle Buffa, Refuge Manager, at (510) 792-0222.

SUPPLEMENTARY INFORMATION: The National Wildlife Refuge System Administration Act of 1966, as amended by the National Wildlife Refuge System Improvement Act of 1997, mandates that all lands within the National Wildlife Refuge System are to be managed in accordance with an approved CCP. The CCP will guide management decisions for approximately the next 15 years and identify Refuge goals, long-range objectives, and management strategies for achieving these objectives. The planning process will consider many elements, including habitat and wildlife management, habitat protection, compatible wildlife-dependent recreation, and environmental effects. Public input into this planning process is very important. The CCP will provide other agencies and the public with a clear understanding of the desired conditions for the Refuge and how the Service will implement management strategies.

Comments received will be used to develop goals, key issues evaluated in the NEPA document, and habitat management strategies. All comments received, including names and addresses, will become part of the administrative record and may be made available to the public. Opportunities for public participation will occur throughout the process.

The Service will send Planning Updates to people who are interested in the CCP process, and the updates will also be available on the planning website at http://pacific.fws.gov/planning. These mailings will provide information on how to participate in the CCP process. Interested federal, state, and local agencies, organizations, and individuals are invited to provide input. The Service expects to complete the CCP in 2007.

Background

The Farallon National Wildlife Refuge is located offshore in the Pacific Ocean, approximately 28 miles west of San Francisco, California. The 211 acre Refuge is an archipelago made up of four major islands and several small islands. The Refuge was initially established by Theodore Roosevelt in 1909 under Executive Order 1043; it is also designated as a State Ecological Reserve and a Golden Gate Biosphere Reserve. The Refuge serves “ * * * as a preserve and breeding ground for native birds” (Executive Order 1043, dated February 27, 1909).

The Refuge was established to provide wintering and nesting habitat for migratory seabirds and pinnipeds. In 1974, Congress enacted Public Law 93-550 which designated all the islands, except for Southeast Island, as the Farallon Wilderness, totaling 141 acres.

The Service anticipates a draft CCP and EA to be available for public review and comment in late 2006.

Dated: May 24, 2005.
Ken McDermond,
Acting Manager, CA/NV Operations, Sacramento, California.

[FR Doc. 05-10718 Filed 5-27-05; 8:45 am]

BILLING CODE 4310-55-P